DEPARTMENT OF AGRICULTURE

Forest Service

Chequamegon-Nicolet National Forest; Wisconsin, Northwest Sands Project

AGENCY: Forest Service, USDA.

ACTION: Notice of intent to prepare an environmental impact statement.

SUMMARY: The Washburn Ranger District intends to prepare an environmental impact statement (EIS) to disclose the environmental consequences of proposed pine barren restoration project. The Northwest Sands Project area is approximately 25,900 acres in size; about 125 acres of this is not National Forest System land. The project area is located in Bayfield County, approximately six miles northeast of Iron River, Wisconsin. The legal description of the area includes lands lying within the National Forest boundary within T.49 N, R.7 W, Section 23-26, 35, 36; T.49 N, R.6 W, Section 19-22, 27-33; T.48 N, R.8 W, Section 12, 13, 24, 25, 36; T.48 N, R.7 W, Section 1-5, 7-11, 14-23, 26-36; T.48 N, R6 W, Sections 2, 4-6, 10-16, 21-27; and T.47 N, R.7 W, Sections 3-6, 8-10, 15-17, 20-22. See the SUPPLEMENTARY INFORMATION section for the purpose and need for the action.

DATES: Comments concerning the scope of the analysis should be received by January 10, 2008 to receive timely consideration. The draft environmental impact statement is expected in March 2009, and the final environmental impact statement is expected in June 2009.

ADDRESSES: Send written comments to District Ranger Spring Rosales, Chequamegon-Nicolet National Forests, Washburn Ranger District, P.O. Box 578, Washburn, WI 54891. For further information, mail correspondence to Jennifer Maziasz, Project Leader; Washburn Ranger District, P.O. Box 578, Washburn, WI 54891.

SUPPLEMENTARY INFORMATION:

Purpose and Need for Action

The main goal of this project is to restore the pine barrens ecosystem. This includes the restoration of the structure and species composition of the vegetation; the creation of habitat conditions needed for wildlife; and to the extent possible, the re-creation of natural disturbance processes, such as fire, which are essential components of a properly functioning pine barrens ecosystem. For this phase of the restoration effort, the following specific needs were identified: (1) Restore the vegetation species composition and structure that typified the pine barrens that existed under a natural disturbance regime; (2) Re-establish fire as a process in the restoration of the pine barrens ecosystem; (3) Restore small, open areas and “pocket barrens” as a component of the overall landscape; (4) Improve habitat for wildlife species that rely on the pine barrens ecosystem; (5) Rehabilitate the closed ATV play area located in the pine barren management area; and (6) Provide a road system that meets the long term transportation needs, fosters the restoration of the pine barrens ecosystem and reduces overall road density.

Proposed Action

In order to address the needs identified above, approximately 6,250 acres would be harvested to the desired density of trees for the structure of a pine barren ecosystem. Of the 6,250 approximately 1,800 acres of harvest is considered sub merchantable (<4 inches in diameter) or low quality. Approximately 14,850 acres of prescribed fire would be conducted to re-establish fire as a process in the restoration of the pine barrens ecosystem. In order to restore small, open areas and pocket barrens approximately 285 acres would be mechanically treated either by harvest, brushing and (or) prescribed burning.

The proposed treatment activities described above would greatly improve habitat conditions for wildlife associated with barrens habitat. As part of those activities, the following actions and design features would be incorporated to enhance the effectiveness of the project in providing favorable habitat conditions for certain species: (1) Three sites (approximately 100 acres) would be managed as refugia for the chryxus arctic and tawny crescent spot butterfly. (2) At least one one-acre patch of recently burned dead trees would be maintained at all times on the landscape to provide favorable habitat for black-backed woodpeckers. (3) 4,800 acres of the open barrens habitat component would be managed as a contiguous large patch to benefit sharp-tailed grouse.

A closed ATV play area (20 acres in size) would be rehabilitated by restoring native ground cover, planting trees, and reshaping major rills and gullies. To provide a road system that meets the long term transportation needs and fosters the restoration of the pine barrens ecosystem the following road actions are proposed: Decommission approximately 55 miles of roads (49 of the 55 miles are currently closed on the ground by overgrown vegetation and (or) berms); convert 1 mile to trail; convert 3 miles to fireline; re-construct (on existing corridors such as old roads or fireline) 17 miles of temporary road; and construct an estimated 6 miles of temporary road to facilitate the initial timber harvest.

Possible Alternatives

Three alternatives to the Proposed Action are being developed in response to public comments received. One alternative increases the quantity and reduces the desired brush cover of the open barrens component (<1 tree per acre) of the pine barren ecosystem. This would result in some additional harvest and mechanical treatment, and increasing the frequency/intensity of prescribed fire in the open barrens designated area. In the two other alternatives implementation of timber harvesting activities and subsequent treatments would occur over a longer period of time. Both alternatives modify the rate of harvest to include multiple harvests (verses 1 harvest entry in the proposed action) over a 15 year period to a selected numbers of stands. One alternative also delays the prescribed burning in the multiple harvest stands and the other does not. This potentially would result in a difference in the flexibility of implementation of the project, wind firmness of the residual trees, risk of invasive species infestation, and the overall economics of the management activities.

Responsible Official

The responsible official for this project is Spring Rosales, Chequamegon-Nicolet National Forests, Washburn Ranger District, P.O. Box 578, Washburn WI 54891.

Scoping Process

The Chequamegon-Nicolet Forest began the scoping process for this project as an environmental assessment during February 2008. Persons and organizations on the District's mailing list were sent information packages, and a notice was placed in the newspaper of record. The project is listed in the Chequamegon-Nicolet Schedule of Proposed Actions, and is viewable on the Forest Web page at http://www.fs.fed.us/r9/cnnf/. Click on “Project Proposals and Decisions,” then “Northwest Sands Project.”

Preliminary Issues

The following issues will be analyzed in the EIS: effects of the proposed activities on soils, water, air quality, Regional Forester Sensitive Species plants and wildlife, and non-native invasive species.

Comment Requested

This notice of intent initiates the scoping process which guides the development of the environmental impact statement.

Early Notice of Importance of Public Participation in Subsequent Environmental Review: A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

Authority: 40 CFR 1501.7 and 1508.22; Forest Service Handbook 1909.15, Section 21.

Dated: December 1, 2008.
Jeanne Higgins,
Forest Supervisor.

[FR Doc. E8-29439 Filed 12-12-08; 8:45 am]

BILLING CODE 3410-11-P